ENVIRONMENTAL PROTECTION AGENCY

[FRL-9992-60-OMS]

National and Governmental Advisory Committees

AGENCY: Environmental Protection Agency (EPA).

ACTION: Notice of Federal Advisory Committee meeting.

SUMMARY: Under the Federal Advisory Committee Act, EPA gives notice of a public meeting of the National Advisory Committee (NAC) and the Governmental Advisory Committee (GAC). The NAC and GAC provide advice to the EPA Administrator on a broad range of environmental policy, technology, and management issues. NAC/GAC members represent academia, business/industry, non-governmental organizations, and state, local and tribal governments. The purpose of the meeting is to welcome new members and brief the committees on the Commission for Environmental Cooperation June Council Session, and review other issues related to the North American Agreement on Environmental Cooperation. A copy of the meeting agenda will be posted at https://www.epa.gov/faca/nac-gac.

DATES: The NAC/GAC will hold a public meeting on Wednesday, May 15, 2019 from 9 a.m. to 5:30 p.m., (EST) and Thursday, May 16, 2019 from 9 a.m. until 2:30 p.m., (EST).

ADDRESSES: The meeting will be held at the EPA Headquarters, William Jefferson Clinton South Building, Room 2138, 1201 Constitution Avenue NW, Washington, DC 20004.

FOR FURTHER INFORMATION CONTACT: Oscar Carrillo, Program Analyst, carrillo.oscar@epa.gov, (202) 564-0347, U.S. EPA, Office of Mission Support, Office of Resources and Business Operations; Federal Advisory Committee Management Division (MC1601M), 1200 Pennsylvania Avenue NW, Washington, DC 20460.

SUPPLEMENTARY INFORMATION: Requests to make oral comments or to provide written comments to NAC/GAC should be sent to Oscar Carrillo at carrillo.oscar@epa.gov by May 7th. The meeting is open to the public, on a first-come, first-served basis. Members of the public wishing to participate in the meeting should contact Oscar Carrillo via email or by calling (202) 564-0347 no later than May 7th. Oscar Carrillo has been designated signature authority by Monisha Harris, Director, Federal Advisory Committee Management Division.

Meeting Access: Information regarding accessibility and/or accommodations for individuals with disabilities should be directed to Oscar Carrillo at the email address or phone number listed above. To ensure adequate time for processing, please make requests for accommodations at least 10 days prior to the meeting.

Dated: April 12, 2019.
Oscar Carrillo,
Program Analyst.

[FR Doc. 2019-08630 Filed 4-26-19; 8:45 am]

BILLING CODE 6560-50-P